DEPARTMENT OF DEFENSE

Department of the Army

Notice of Availability of the Draft Environmental Impact Statement (DEIS) for Base Realignment and Closure (BRAC) and Enhanced Use Lease (EUL) Actions at Fort Meade, MD

AGENCY: Department of the Army, DoD.

ACTION: Notice of Availability (NOA).

SUMMARY: The Department of the Army announces the availability of the DEIS which evaluates the potential environmental impacts associated with realignment actions directed by the Base Realignment and Closure (BRAC) Commission and Army Enhanced Use Lease (EUL) Actions at Fort Meade, Maryland.

DATES: The public comment period for the DEIS will end 45 days after publication of an NOA in the Federal Register by the Environmental Protection Agency.

ADDRESSES: Please send written comments on the DEIS to: Ms. Melanie Moore at Fort Meade, Public Affairs Office, 4550 Pershing Hall, Room 102, Fort Meade, MD 20755 or via e-mail at melanie.moore@us.army.mil.

FOR FURTHER INFORMATION CONTACT: Ms. Melanie Moore at (301) 677-1301 during normal business hours Monday through Friday.

SUPPLEMENTARY INFORMATION: The Proposed Action and subject of the DEIS covers the construction activities, and movement of personnel associated with the BRAC realignment activities. The DEIS also covers the proposed Army EUL actions that will occur at Fort Meade at the same time that the BRAC action is being implemented.

To implement the BRAC recommendations, Fort Meade will be receiving personnel, equipment, and missions from various realignment and closure actions within the Department of Defense. Additionally, Fort Meade plans to use the EUL program to implement projects that would allow the installation to better execute its comprehensive master plan and would support the proposed BRAC-directed projects. The EUL actions are considered concurrently with the BRAC initiatives at Fort Meade. To implement the BRAC Commission recommended initiatives, the Army will provide the necessary facilities/buildings and infra-structure to support the changes as recommended. Permanent facilities will be constructed to house the Defense Information Systems Agency (DISA), the DoD Media Activities (DMA), and the Adjudication and Office of Hearing and Appeals Offices, which are currently located in a mix of leased facilities and at government installations.

To implement the EUL action, Fort Meade proposes to lease to a private developer approximately 173 acres in two parcels for a term of 50 years. The installation would receive in-kind development of a 367-acre parcel. Because the development of these three parcels would have potential impacts in the same region as the BRAC realignment actions, it is considered in this DEIS. The two EUL parcels that will be leased are located on installation property outside the fence line. The parcel for in-kind development is located within the fence line along the perimeter of the installation.

Following an examination of all implementation alternatives, those alternatives found not to be viable were dropped from further analysis in the Fort Meade DEIS. Alternatives carried forward include: (1) The Preferred BRAC Realignment and EUL Action Alternative, (2) BRAC Realignment without EUL and associated construction, and (3) a No action Alternative. The Preferred Alternative includes construction and operation of proposed facilities to accommodate incoming military missions at Fort Meade as mandated by the 2005 BRAC recommendations and Army EUL actions. Alternative siting variations of proposed BRAC facilities were also evaluated.

The DEIS analyses indicate that implementation of the preferred alternative, BRAC and EUL Actions Alternative, would have long-term, significant impacts on transportation, land use, socioeconomics (demographics and schools), visual and aesthetic resources, biological (vegetation and wildlife), utilities (wastewater and storm water drainage). Implementation of the preferred alternative would have short-term significant impacts to noise, energy sources, and solid waste disposal; and short-term minor effects to surface water during construction activities. Implementation of the preferred alternative would have no significant impacts to air quality, geology and soils; water resources (ground-water, floodplains, and coastal zones); biological (rare, threatened, and endangered species and aquatic species); socioeconomics (economic development, housing, and law enforcement); utilities (potable water, energy sources-operations, solid waste-operations); and hazardous and toxic substances. There would be no impacts to cultural resources, socioeconomics (environmental justice or protection of children) from implementation of the BRAC and EUL Actions Alternative. Alternative siting variations would provide similar impacts and benefits as compared to the preferred alternative. The no action alternative provides the baseline conditions for comparison to the preferred alternative.

The Army invites the general public, local governments, other Federal agencies, and state agencies to submit written comments or suggestions concerning the alternatives and analyses addressed in the DEIS. The public and government agencies are invited to participate in a public meeting where oral and written comments and suggestions will be received. The public meeting will be held on April 18, 2007 from 6 p.m. to 8 p.m. at the School-Age Services Building, 1900 Reece Road, Fort Meade, MD 20755. The DEIS is available at http://www.hqda.army.mil/acsimweb/brac/nepa_eis_docs.htm.

Dated: March 15, 2007.
Addison D. Davis, IV,
Deputy Assistant Secretary of the Army, (Environment, Safety and Occupational Health).

[FR Doc. 07-1394 Filed 3-21-07; 8:45 am]

BILLING CODE 3710-08-M